FEDERAL RESERVE SYSTEM

Consumer Advisory Council; Notice of Meeting

The Consumer Advisory Council will meet on Thursday, October 27, 2005. The meeting, which will be open to public observation, will take place at the Federal Reserve Board's offices in Washington, DC, in Dining Room E on the Terrace level of the Martin Building. Anyone planning to attend the meeting should, for security purposes, register no later than Tuesday, October 25, by completing the form found online at: https://www.federalreserve.gov/secure/forms/cacregistration.cfm.

Additionally, attendees must present photo identification to enter the building.

The meeting will begin at 9 a.m. and is expected to conclude at 1 p.m. The Martin Building is located on C Street, NW., between 20th and 21st Streets.

The Council's function is to advise the Board on the exercise of the Board's responsibilities under various consumer financial services laws and on other matters on which the Board seeks its advice. Time permitting, the Council will discuss the following topics:

Home Mortgage Disclosure Act. Issues related to the use of the new pricing data by financial institutions and resulting changes in policies and procedures.

Economic Growth and Regulatory Paperwork Reduction Act of 1996. Industry proposals to revise financial services laws to reduce compliance costs.

Mortgage Loans. Issues concerning nontraditional loan products, including risk management and consumer disclosures.

Hurricane Katrina. Short-term and long-term issues and challenges for financial institutions.

Committee Reports. Council committees will report on their work. Other matters initiated by Council members also may be discussed.

Persons wishing to submit views to the Council on any of the above topics may do so by sending written statements to Ann Bistay, Secretary of the Consumer Advisory Council, Division of Consumer and Community Affairs, Board of Governors of the Federal Reserve System, Washington, DC 20551. Information about this meeting may be obtained from Ms. Bistay, 202-452-6470.

Board of Governors of the Federal Reserve System, September 28, 2005.
Jennifer J. Johnson,
Secretary of the Board.

[FR Doc. 05-19781 Filed 10-3-05; 8:45 am]

BILLING CODE 6210-01-P